DEPARTMENT OF COMMERCE

International Trade Administration

[A-489-501]

Welded Carbon Steel Standard Pipe and Tube Products From Turkey: Notice of Correction to the Final Results of Antidumping Duty Administrative Review; 2012-2013

AGENCY: Enforcement and Compliance, International Trade Administration, Commerce.

FOR FURTHER INFORMATION CONTACT: Fred Baker or Robert James, AD/CVD Operations, Office VI, Enforcement and Compliance International Trade Administration, U.S. Department of Commerce, 14th Street and Constitution Avenue NW., Washington, DC 20230; telephone (202) 482-2924 or (202) 482-0649, respectively.

SUPPLEMENTARY INFORMATION: On December 1, 2014, the Department of Commerce (the Department) published the final results of the 2012-2013 administrative review of the antidumping duty order on welded carbon steel standard pipe and tube products from Turkey.¹ The period of review (POR) is May 1, 2012, through April 30, 2013. In the Final Results, the Department misspelled the name of a company on which the Department had initiated a review,² but for which record evidence does not exist under that spelling. Specifically, the Department initiated a review of Toscelik Profil ve Sac Endustisi A.S. However, information later placed on the record indicates that no company exists with this spelling (i.e., spelled without an “r” in the final word of the name).³ While we intended to include this company in the list of companies that had made no shipments during the POR, we mistakenly listed the company as Toscelik Profil ve Sac Endustrisi A.S. (i.e., with an “r” in the last full word of the name). In the list of companies that had no shipments, the Department intended to spell this company name as Toscelik Profil ve Sac Endustisi A.S. (i.e., without an “r” in the last full word of the name).

¹ See Welded Carbon Steel Standard Pipe and Tube Products From Turkey: Final Results of Antidumping Duty Administrative Review; 2012-2013, 79 FR 71087 (December 1, 2014) (Final Results).

² See Initiation of Antidumping and Countervailing Duty Administrative Reviews and Request for Revocation in Part, 78 FR 38924 (June 28, 2013).

³ See October 30, 2013, submission by Toscelik Profil ve Sac Endustrisi A.S. at 3. Note that the company that made this submission, and that spells its name with an “r” in the final full word of its name, is not the company whose name was misspelled in the Final Results.

This correction to the final results of administrative review is issued and published in accordance with sections 751(h) and 777(i) of the Tariff Act of 1930, as amended.

Dated: January 9, 2015.
Gary Taverman,
Associate Deputy Assistant Secretary for Antidumping and Countervailing Duty Operations.

[FR Doc. 2015-00646 Filed 1-15-15; 8:45 am]

BILLING CODE 3510-DS-P